GENERAL SERVICES ADMINISTRATION

40 CFR 1900

41 CFR Chapters 101, 102, 105, 300, 301, 302, and 304

48 CFR Chapter 5

48 CFR 6101 and 6102

Unified Agenda of Federal Regulatory and Deregulatory Actions

AGENCY: General Services Administration (GSA).

ACTION: Semiannual regulatory agenda.

This agenda announces the proposed regulatory actions that GSA plans for the next 12 months and those completed since the fall 2018 edition. This agenda was developed under the guidelines of Executive Orders (E.O.) 12866 “Regulatory Planning and Review,” as amended, Executive Order 13771 “Reducing Regulation and Controlling Regulatory Costs,” and Executive Order 13563 “Improving Regulation and Regulatory Review.” GSA's purpose in publishing this agenda is to allow interested persons an opportunity to participate in the rulemaking process.

This agenda updates the report published on October 17, 2018, and includes regulations expected to be issued and under review over the next 12 months. The next agenda is scheduled to be published in the fall of 2019.

The complete Unified Agenda will be available online at www.reginfo.gov.

Because publication in the Federal Register is mandated for the regulatory flexibility agendas required by the Regulatory Flexibility Act (5 U.S.C. 602), GSA's printed agenda entries include only:

(1) Rules that are in the Agency's regulatory flexibility agenda, in accordance with the Regulatory Flexibility Act, because they are likely to have a significant economic impact on a substantial number of small entities; and

(2) Any rules that the Agency has identified for periodic review under section 610 of the Regulatory Flexibility Act.

Printing of these entries is limited to fields that contain information required by the Regulatory Flexibility Act's Agenda requirements. Additional information on these entries is in the Unified Agenda available online.

FOR FURTHER INFORMATION CONTACT: Lois Mandell, Division Director, Regulatory Secretariat Division, 1800 F Street NW, 2nd Floor, Washington, DC 20405-0001, 202-501-2735.

Dated: March 4, 2019.
Jessica Salmoiraghi,
Associate Administrator, Office of Government-wide Policy.

General Services Administration—Proposed Rule Stage
Sequence No. | Title | Regulation Identifier No.
177 | General Services Acquisition Regulation (GSAR); GSAR Case 2016-G511, Contract Requirements for GSA Information Systems | 3090-AJ84

General Services Administration—Final Rule Stage
Sequence No. | Title | Regulation Identifier No.
178 | GSAR Case 2008-G517, Cooperative Purchasing—Acquisition of Security and Law Enforcement Related Goods and Services (Schedule 84) by State and Local Governments Through Federal Supply Schedules | 3090-AI68
179 | General Services Administration Acquisition Regulation (GSAR); GSAR Case 2013-G502, Federal Supply Schedule Contract Administration | 3090-AJ41
180 | General Services Administration Acquisition Regulation (GSAR); GSAR Case 2015-G506, Adoption of Construction Project Delivery Method Involving Early Industry Engagement | 3090-AJ64
181 | Federal Permitting Improvement Steering Council (FPISC); FPISC Case 2018-001; Fees for Governance, Oversight, and Processing of Environmental Reviews and Authorizations | 3090-AJ88

General Services Administration—Completed Actions
Sequence No. | Title | Regulation Identifier No.
182 | General Services Administration Acquisition Regulation (GSAR); GSAR Case 2015-G503, Construction Contract Administration | 3090-AJ63
183 | General Services Administration Acquisition Regulation (GSAR); GSAR Case 2016-G515, Cyber Incident Reporting | 3090-AJ85
184 | General Services Administration Acquisition Regulation (GSAR); GSAR Case 2019-G501, Ordering Procedures for Commercial e-Commerce Portals | 3090-AK03
185 | General Services Administration Acquisition Regulation (GSAR); GSAR Case 2019-G502, Contractual Arrangements for Commercial e-Commerce Portals | 3090-AK04

GENERAL SERVICES ADMINISTRATION (GSA)

Office of Acquisition Policy

Proposed Rule Stage

177. General Services Acquisition Regulation (GSAR); GSAR Case 2016-G511, Contract Requirements for GSA Information Systems

E.O. 13771 Designation: Other.

Legal Authority: 40 U.S.C. 121(c)

Abstract: The General Services Administration (GSA) is proposing to amend the General Services Administration Acquisition Regulation (GSAR) to streamline and update requirements for contracts that involve GSA information systems. GSA's unique policies on cybersecurity and other information technology requirements have been previously communicated through other means. By incorporating these requirements into the GSAR, the GSAR will provide centralized guidance to ensure consistent application across the organization. Integrating these requirements into the GSAR will also allow industry to provide public comments through the rulemaking process.

GSA's cybersecurity requirements mandate contractors protect the confidentiality, integrity, and availability of unclassified GSA information and information systems from cybersecurity vulnerabilities, and threats in accordance with the Federal Information Security Modernization Act of 2014 and associated Federal cybersecurity requirements. This rule will require contracting officers to incorporate applicable GSA cybersecurity requirements within the statement of work to ensure compliance with Federal cybersecurity requirements and implement best practices for preventing cyber incidents. These GSA requirements mandate applicable controls and standards (e.g., U.S. National Institute of Standards and Technology, U.S. National Archive and Records Administration Controlled Unclassified Information standards).

Contract requirements for internal information systems, external contractor systems, cloud systems, and mobile systems will be covered by this rule. This rule will also update existing GSAR provision 552.239-70, Information Technology Security Plan and Security Authorization and GSAR clause 552.239-71, Security Requirements for Unclassified Information Technology Resources to only require the provision and clause when the contract will involve information or information systems connected to a GSA network.

Timetable:

Action | Date | FR Cite
NPRM | 08/00/19 |
NPRM Comment Period End | 10/00/19 |

Regulatory Flexibility Analysis Required: Yes.

Agency Contact: Michelle Bohm, Contract Specialist, General Services Administration, 100 S. Independence Mall W Room: 9th Floor, Philadelphia, PA 19106-2320, Phone: 215 446-4705, Email: michelle.bohm@gsa.gov.

RIN: 3090-AJ84

GENERAL SERVICES ADMINISTRATION (GSA)

Office of Acquisition Policy

Final Rule Stage

178. GSAR Case 2008-G517, Cooperative Purchasing—Acquisition of Security and Law Enforcement Related Goods and Services (Schedule 84) by State and Local Governments Through Federal Supply Schedules

E.O. 13771 Designation: Other.

Legal Authority: 40 U.S.C. 121(c); 40 U.S.C. 502(c)(1)(B)

Abstract: The General Services Administration (GSA) is amending the General Services Administration Acquisition Regulation (GSAR) to implement Public Law 110-248, The Local Preparedness Acquisition Act. The Act authorizes the Administrator of General Services to provide for the use by State or local governments of Federal Supply Schedules of the GSA for alarm and signal systems, facility management systems, firefighting and rescue equipment, law enforcement and security equipment, marine craft and related equipment, special purpose clothing, and related services (as contained in Federal supply classification code group 84 or any amended or subsequent version of that Federal supply classification group).

Timetable:

Action | Date | FR Cite
Interim Final Rule | 09/19/08 | 73 FR 54334
Interim Final Rule Comment Period End | 11/18/08 |
Final Rule | 05/00/19 |

Regulatory Flexibility Analysis Required: Yes.

Agency Contact: Thomas O'Linn, Procurement Analyst, General Services Administration, 1800 F Street NW, Washington, DC 20405, Phone: 202 445-0390, Email: thomas.olinn@gsa.gov.

RIN: 3090-AI68

179. General Services Administration Acquisition Regulation (GSAR); GSAR Case 2013-G502, Federal Supply Schedule Contract Administration

E.O. 13771 Designation: Other.

Legal Authority: 40 U.S.C. 121(c)

Abstract: The General Services Administration (GSA) is amending the General Services Administration Acquisition Regulation (GSAR) to clarify and update the contracting by negotiation GSAR section and incorporate existing Federal Supply Schedule Contracting policies and procedures, and corresponding provisions and clauses.

Timetable:

Action | Date | FR Cite
NPRM | 09/10/14 | 79 FR 54126
NPRM Comment Period End | 11/10/14 |
Final Rule | 05/00/19 |

Regulatory Flexibility Analysis Required: Yes.

Agency Contact: Dana L. Bowman, Procurement Analyst, General Services Administration, 1800 F Street NW, Washington, DC 20405, Phone: 202 357-9652, Email: dana.bowman@gsa.gov.

RIN: 3090-AJ41

180. General Services Administration Acquisition Regulation (GSAR); GSAR Case 2015-G506, Adoption of Construction Project Delivery Method Involving Early Industry Engagement

E.O. 13771 Designation: Deregulatory.

Legal Authority: 40 U.S.C. 121(c)

Abstract: The General Services Administration (GSA) is proposing to amend the General Services Administration Acquisition Regulation (GSAR) to adopt an additional project delivery method for construction, construction manager as constructor (CMc). The current FAR and GSAR lacks detailed coverage differentiating various construction project delivery methods. GSA's policies on CMc have been previously issued through other means. By incorporating CMc into the GSAR and differentiating for various construction methods, the GSAR will provide centralized guidance to ensure consistent application of construction project principles across the organization. Integrating these requirements into the GSAR will also allow industry to provide public comments through the rulemaking process.

Timetable:

Action | Date | FR Cite
NPRM | 11/08/18 | 83 FR 55838
Correction | 11/27/18 | 83 FR 60818
NPRM Comment Period End | 01/07/19 |
Final Rule | 07/00/19 |

Regulatory Flexibility Analysis Required: Yes.

Agency Contact: Tony Hubbard, Procurement Analyst, General Services Administration, 1800 F Street NW, Washington, DC 20405, Phone: 202 357-5810, Email: tony.hubbard@gsa.gov.

RIN: 3090-AJ64

Office of Governmentwide Policy

181. Federal Permitting Improvement Steering Council (FPISC); FPISC Case 2018-001; Fees for Governance, Oversight, and Processing of Environmental Reviews and Authorizations

E.O. 13771 Designation: Other.

Legal Authority: 42 U.S.C. 4370m-8

Abstract: GSA proposes to establish a fee structure to reimburse the Federal Permitting Improvement Steering Council and its Office of the Executive Director for reasonable costs incurred in coordinating environmental reviews and authorizations in implementing title 41 of the Fixing America's Surface Transportation Act. GSA will issue this regulation on behalf of the Federal Permitting Improvement Steering Council.

Timetable:

Action | Date | FR Cite
NPRM | 09/04/18 | 83 FR 44846
NPRM Comment Period End | 11/05/18 |
Final Rule | 09/00/19 |

Regulatory Flexibility Analysis Required: Yes.

Agency Contact: Amber Dawn Levofsky, Program Analyst, General Services Administration, 1800 F Street NW, Room 3017, Washington, DC 20405-0001, Phone: 202 969-7298, Email: amber.levofsky@gsa.gov.

RIN: 3090-AJ88

GENERAL SERVICES ADMINISTRATION (GSA)

Completed Actions

182. General Services Administration Acquisition Regulation (GSAR); GSAR Case 2015-G503, Construction Contract Administration

E.O. 13771 Designation: Other.

Legal Authority: 40 U.S.C. 121(c)

Abstract: This final rule amends the General Services Administration Acquisition Regulation (GSAR) coverage on construction contracts, including provisions and clauses for solicitations and resultant contracts, to clarify, update, and incorporate existing construction contract administration procedures.

Completed:

Reason | Date | FR Cite
Final Rule | 02/13/19 | 84 FR 3714
Final Rule Effective | 03/15/19 |

Regulatory Flexibility Analysis Required: Yes.

Agency Contact: Tony Hubbard, Phone: 202 357-5810, Email: tony.hubbard@gsa.gov.

RIN: 3090-AJ63

183. General Services Administration Acquisition Regulation (GSAR); GSAR Case 2016-G515, Cyber Incident Reporting

E.O. 13771 Designation: Other.

Legal Authority: 40 U.S.C. 121(c)

Abstract: We are withdrawing because active FAR cases will provide sufficient policy on this issue. GSA supplemental guidance is not necessary.

Completed:

Reason | Date | FR Cite
Withdrawn | 02/21/19 |

Regulatory Flexibility Analysis Required: Yes.

Agency Contact: Kevin Funk, Phone: 202 357-5805, Email: kevin.funk@gsa.gov.

RIN: 3090-AJ85

184. General Services Administration Acquisition Regulation (GSAR); GSAR CASE 2019-G501, Ordering Procedures for Commercial E-Commerce Portals

E.O. 13771 Designation: Other.

Legal Authority: 40 U.S.C. 121(c); 41 U.S.C. 1901 note

Abstract: GSA is withdrawing this case. GSA has determined that regulatory changes to support the e-Commerce Portal are more appropriate after the proof-of-concept phase for this program has been completed.

Completed:

Reason | Date | FR Cite
Withdrawn | 02/14/19 |

Regulatory Flexibility Analysis Required: Yes.

Agency Contact: Matthew McFarland, Phone: 301 758-5880, Email: matthew.mcfarland@gsa.gov.

RIN: 3090-AK03

185. General Services Administration Acquisition Regulation (GSAR); GSAR CASE 2019-G502, Contractual Arrangements for Commercial E-Commerce Portals

E.O. 13771 Designation: Other.

Legal Authority: 40 U.S.C. 121(c); 41 U.S.C. 1901 note

Abstract: GSA is withdrawing this case. GSA has determined that regulatory changes to support the e-Commerce Portal are more appropriate after the proof-of-concept phase for this program has been completed.

Completed:

Reason | Date | FR Cite
Withdrawn | 02/14/19 |

Regulatory Flexibility Analysis Required: Yes.

Agency Contact: Matthew McFarland, Phone: 301 758-5880, Email: matthew.mcfarland@gsa.gov.

RIN: 3090-AK04

[FR Doc. 2019-11859 Filed 6-21-19; 8:45 am]

BILLING CODE 6820-14-P